DEPARTMENT OF TRANSPORTATION

Federal Aviation Administration

14 CFR Part 39

[Docket No. 2003-SW-40-AD]

RIN 2120-AA64

Airworthiness Directives; Eurocopter France Model EC155B and B1 Helicopters

AGENCY: Federal Aviation Administration, DOT.

ACTION: Notice of proposed rulemaking (NPRM).

SUMMARY: This document proposes adopting a new airworthiness directive (AD) for the specified Eurocopter France (ECF) model helicopters. The AD would require cleaning the auxiliary system unit (ASU) board. Also, the AD would require modifying the wiring and wiring harness. If a temporary modification is done, the AD would require inserting a placard regarding on-ground operation of the emergency landing gear pump (pump). Also, the AD would revise the Limitations section of the Rotorcraft Flight Manual (RFM) to limit the operation of the pump. Permanently modifying the wiring and wiring harness and removing the placard and limitations from the RFM would be terminating action. This proposal is prompted by the report of an emergency landing with the landing gear retracted. The landing gear failed to extend in normal and emergency extension modes following failure of the ASU board 10 Alpha 2. The actions specified by the proposed AD are intended to prevent an electrical short circuit, failure of landing gear to extend, and a landing gear-up emergency landing.

DATES: Comments must be received on or before May 25, 2004.

ADDRESSES: Submit comments in triplicate to the Federal Aviation Administration (FAA), Office of the Regional Counsel, Southwest Region, Attention: Rules Docket No. 2003-SW-40-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jorge Castillo, Aviation Safety Engineer, FAA, Rotorcraft Directorate, Regulations and Guidance Group, Fort Worth, Texas 76193-0111, telephone (817) 222-5127, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-40-AD.” The postcard will be date stamped and returned to the commenter.

Discussion

The Direction Generale De L'Aviation Civile (DGAC), the airworthiness authority for France, notified the FAA that an unsafe condition may exist on Model EC 155B and B1 helicopters equipped with ASU board 10 Alpha 2, part number (P/N) SE07451. The DGAC advises that a landing gear did not extend in “NORMAL” and “EMERGENCY” extension modes due to a short-circuit between two components of the ASU board 10 Alpha 2.

ECF has issued Alert Telex No. 31A005R1, dated September 19, 2002, and Alert Service Bulletin (ASB) Nos. 31A005 and 31A008, both dated August 20, 2003. The Alert Telex and ASB No. 31A005 describe procedures for modifying the electrical circuit to preclude the risk of the landing gear not extending in the normal and emergency extension modes following failure of the ASU board 10 Alpha 2. ASB No. 31A008 describes procedures to enhance the reliability of the normal and emergency landing gear extension functions by separating their power supplies. The DGAC classified these service bulletins as mandatory and issued AD Nos. 2002-515(A) R1 and 2003-323(A), both dated September 3, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This previously described unsafe condition is likely to exist or develop on other helicopters of these same type designs registered in the United States. Therefore, the proposed AD would require the following:

• Within 15 hours time-in-service (TIS), clean the ASU board 10 Alpha 2.

• Within 30 days, either modify the wiring and wiring harness permanently or temporarily. If you elect the temporary modification, install a self-adhesive placard with the following text in white letters on a red background:

“CAUTION: ON GROUND OPERATION OF EMERGENCY LANDING GEAR PUMP IS TIME LIMITED—SEE OPERATING LIMITATIONS.”

Also, insert the following text into the Operating Limitations section of the RFM:

“Limit the emergency landing gear pump (pump) to 10 minutes of continuous operation.

When the pump is continuously operated from 1 to 5 minutes, allow it to cool for 15 minutes before further use.

When the pump is continuously operated from 5 to 10 minutes, allow it to cool for 30 minutes before further use.”

• Within 10 months, modify the wiring and wiring harness.

• Remove the temporary placard, if installed, and the limitations from the RFM.

The actions would be required to be accomplished following the service bulletins described previously. Permanently modifying the wiring and wiring harness and removing the temporary placard and operating limitations would be terminating actions for the requirements of this AD.

The FAA estimates that this proposed AD would affect 5 helicopters of U.S. registry. The modifications of the electrical system would take approximately 11 work hours per helicopter to accomplish at an average labor rate of $65 per work hour. Required parts would cost approximately $400 per helicopter. Based on these figures, the total cost impact of the proposed AD on U.S. operators would be $5,575.

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the economic evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2003-SW-40-AD.

Applicability: Model EC 155B and B1 helicopters with auxiliary system unit (ASU) board 10 Alpha 2, part number (P/N) SE07451, installed, certificated in any category.

Compliance: Required as indicated, unless accomplished previously.

To prevent an electrical short circuit, failure of landing gear to extend, and an emergency landing, accomplish the following:

(a) Within 15 hours time-in-service (TIS), clean the auxiliary system unit (ASU) board 10 Alpha 2. Clean the ASU board by following the Accomplishment Instructions, paragraphs 2.B.1, and 2.B.2.a., of Eurocopter EC155 Alert Service Bulletin (ASB) No. 31A005, dated August 20, 2003 (ASB No. 31A005).

(b) Within 30 days, modify the wiring and wiring harness permanently by complying with paragraph (c) of this AD or temporarily by following the Accomplishment Instructions, paragraphs 2.B.1. and 2.B.2.a. through 2.B.2.d. of ASB No. 31A005. If temporarily modified:

(1) Install a self-adhesive placard of the size and in the location depicted in Figure 4 of ASB No. 31A005 with the following text in white letters on a red background: “CAUTION: ON GROUND OPERATION OF EMERGENCY LANDING GEAR PUMP IS TIME LIMITED—SEE OPERATING LIMITATIONS” and

(2) Revise the Operating Limitations by inserting the following text into the Rotorcraft Flight Manual (RFM):

“(i) Limit the emergency landing gear pump (pump) to 10 minutes of continuous operation.

(ii) When the pump is continuously operated from 1 to 5 minutes, allow it to cool for 15 minutes before further use.

(iii) When the pump is continuously operated from 5 to 10 minutes, allow it to cool for 30 minutes before further use.”

Note 1: Modifying the electric wiring covered by Alert Telex No. 31A005R1, dated September 19, 2002, led to inhibiting the protective thermal switch of the electric pump. This resulted in the need for a limitation placard. The purpose of the limitation placard is to remind operators about the on-ground operating limitations that apply to the electric pump.

(c) Within 10 months, modify the wiring and wiring harness by following the Accomplishment Instructions, paragraphs 2.A. and 2.B., of Eurocopter EC155 ASB No. 31A008, dated August 20, 2003 (ASB No. 31A008). If you made the temporary modifications described in paragraph (b) of this AD, remove the placard from the helicopter and the limitations inserted in the RFM as a result of paragraphs (b)(1) and (b)(2) of this AD.

(d) Permanently modifying the wiring and wiring harness following ASB No. 31A008 is terminating action for the requirements of this AD.

(e) To request a different method of compliance or a different compliance time for this AD, follow the procedures in 14 CFR 39.19. Contact the Safety Management Group, Rotorcraft Directorate, FAA, for information about previously approved alternative methods of compliance.

(f) Special flight permits will not be issued.

Note 2: The subject of this AD is addressed in Direction Generale De L'Aviation Civile (France) AD Nos. 2002-515(A) R1 and 2003-323(A), both dated September 3, 2003.

Issued in Fort Worth, Texas, on March 10, 2004.
Scott A. Horn,
Acting Manager, Rotorcraft Directorate, Aircraft Certification Service.

[FR Doc. 04-6778 Filed 3-25-04; 8:45 am]

BILLING CODE 4910-13-P